DEPARTMENT OF THE INTERIOR

National Park Service

[NPS-WASO-NAGPRA-NPS0037530; PPWOCRADN0-PCU00RP14.R50000]

Notice of Inventory Completion: Milwaukee Public Museum, Milwaukee, WI

AGENCY: National Park Service, Interior.

ACTION: Notice.

SUMMARY: In accordance with the Native American Graves Protection and Repatriation Act (NAGPRA), the Milwaukee Public Museum has completed an inventory of human remains and associated funerary objects and has determined that there is a cultural affiliation between the human remains and associated funerary objects and Indian Tribes or Native Hawaiian organizations in this notice. The human remains and associated funerary objects were removed from Marinette County, WI.

DATES: Repatriation of the human remains and associated funerary objects in this notice may occur on or after April 5, 2024.

ADDRESSES: Dawn Scher Thomae, Milwaukee Public Museum, 800 W Wells Street, Milwaukee, WI 53233, telephone (414) 278-6157, email thomae@mpm.edu.

SUPPLEMENTARY INFORMATION: This notice is published as part of the National Park Service's administrative responsibilities under NAGPRA. The determinations in this notice are the sole responsibility of the Milwaukee Public Museum. The National Park Service is not responsible for the determinations in this notice. Additional information on the determinations in this notice, including the results of consultation, can be found in the inventory or related records held by the Milwaukee Public Museum.

Description

Human remains representing, at minimum, one individual were removed from Marinette County, WI. In 1964, historic burials were excavated at the Potato Rapids site (47-MT-79) located along the Peshtigo River just upstream of the Highway-64 Bridge near the town of Peshtigo and the Potato Rapids power plant in Porterfield Township, Marinette County, WI. Members of the Wisconsin Archaeological Society conducted the excavations under the supervision of Robert J. Hruska, then Curator of Anthropology at the Oshkosh Public Museum. The individual was then donated to the Milwaukee Public Museum by Hruska and the Wisconsin Archaeological Society on June 6th, 1967. The individual is a complete female that has associated funerary objects in a suspended matrix within a plaster jacket and two metal poles attached along the length serve as handles for transport. The 12 associated funerary objects include birch bark fragments, two silver brooches, one lot of black glass beads (>50), fabric fragments, a metal cup, a belt buckle, a knife handle or pocketknife, a saucer or plate, brooch or gorget, metal fragments, and fur fragments.

The Potato Rapids Burial site (47-MT-79) is located within the ancestral territory of the Menominee Indian Tribe of Wisconsin and within the area occupied by the Menominee during the early to mid-19th century. According to the Treaty with the Menominee of 1836, a section of land including the site was ceded by the Menominee to the United States Federal Government. Additionally, a map of Indian Villages c. 1830 in the Wisconsin Region of Michigan Territory from Helen Hornbeck Tanner's book, “Atlas of Great Lakes Indian History”, shows several Menominee villages located in the vicinity of the site. In 2000, a burial from the same site was affiliated with and repatriated to the Menominee Indian Tribe of Wisconsin by the Oshkosh Public Museum.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical information, historical information, and expert opinion.

Determinations

Pursuant to NAGPRA and its implementing regulations, and after consultation with the appropriate Indian Tribes and Native Hawaiian organizations, the Milwaukee Public Museum has determined that:

• The human remains described in this notice represent the physical remains of one individual of Native American ancestry.

• The 12 objects described in this notice were placed with or near individual human remains at the time of death or later as part of the death rite or ceremony.

• There is a relationship of shared group identity that can be reasonably traced between the human remains and associated funerary objects described in this notice and the Menominee Indian Tribe of Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 5, 2024. If competing requests for repatriation are received, the Milwaukee Public Museum must determine the most appropriate requestor prior to repatriation. Requests for joint repatriation of the human remains and associated funerary objects are considered a single request and not competing requests. The Milwaukee Public Museum is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 27, 2024.
Melanie O'Brien,
Manager, National NAGPRA Program.

[FR Doc. 2024-04663 Filed 3-5-24; 8:45 am]

BILLING CODE 4312-52-P